FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Application for Employment with the Board of Governors of the Federal Reserve System (FR 28; OMB No. 7100-0181).

DATES: Comments must be submitted on or before January 25, 2021.

ADDRESSES: You may submit comments, identified by FR 28, by any of the following methods:

• Agency Website: https://www.federalreserve.gov/. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

A copy of the Paperwork Reduction Act (PRA) OMB submission, including the reporting form and instructions, supporting statement, and other documentation will be available at https://www.reginfo.gov/public/do/PRAMain, if approved. These documents will also be made available on the Board's public website at https://www.federalreserve.gov/apps/reportforms/review.aspx or may be requested from the agency clearance officer, whose name appears above.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report title: Application for Employment with the Board of Governors of the Federal Reserve System.

Agency form number: FR 28.

OMB control number: 7100-0181.

Frequency: As needed.

Respondents: Individuals who are seeking employment with the Board.

Estimated number of respondents: FR 28 (initial application only in Taleo): 15,000; FR 28 (initial application plus pre-interview section in Taleo): 2,000; FR 28 (PDF): 150; FR 28s: 7,500; FR 28i: 300; FR 28c: 2,300.

Estimated average hours per response: FR 28 (initial application only in Taleo): 0.25; FR 28 (initial application plus pre-interview section in Taleo): 1; FR 28 (PDF): 0.75; FR 28s: 0.0166; FR 28i: 0.25; FR 28c: 0.5.

Estimated annual burden hours: FR 28 (initial application only in Taleo): 3,750; FR 28 (initial application plus pre-interview section in Taleo): 2,000; FR 28 (PDF): 112.5; FR 28s: 124.5; FR 28i: 75; FR 28c: 1,150; total: 7,212.

General description of report: The Board receives approximately 17,000 FR 28 applications per year, both solicited and unsolicited, from members of the public who would like to be considered for employment at the Board. The FR 28 application form comprises seven sections: (I) Background, (II) Job Preferences, (III) Education and Training, (IV) Certifications and Professional Licenses, (V) Employment Record, (VI) References, and (VII) General Questions, including clarifying comments if applicable. The Background section collects name, address, telephone and citizenship information, as well as the position for which the applicant is applying and the applicant's willingness to travel. The Job Preferences section asks about the type of employment desired (e.g., permanent or temporary; full or part-time; and desired compensation). The Education and Training section collects detailed information on the applicant's educational history and skills set. The Certifications and Professional Licenses section collects information on when an applicant's current certification(s) and license(s) were issued and expired. The Employment Record section collects a chronological summary of work experience. The References section collects information on three references. The General Questions section collects information such as criminal records; discharges or terminations from employment; retirement annuity status from the DC or federal governments or the military; relationships to or acquaintances with Board staff or with officers and directors of financial institutions; and ownership interest that the applicant, their spouse, or their child[ren] holds in certain financial institutions.

The FR 28 application form may be completed online through the Taleo submission website, or in hardcopy by PDF. If the applicant completes the online version of the application through Taleo, they will initially be asked to upload a resume and to complete the first four sections of the application; it is not until the applicant is asked to interview that they will be instructed to complete the remaining sections of the application. If completing the PDF version of the FR 28 application form, the applicant will fill out all seven sections in their entirety but may not be asked to supply a resume.

The FR 28s is a voluntary form that comprises four sections seeking the following information: Name and gender, for which applicants are asked to check either the box that corresponds to their gender or the box for “I do not wish to disclose”; the position for which the applicant is applying; ethnicity self-identification, for which applicants are asked to choose from among Hispanic or Latino, Not Hispanic or Latino, or “I do not wish to disclose”; and race self-identification, for which applicants are asked to choose one or more from among American Indian or Alaskan Native; Asian; Black or African-American; Native Hawaiian or Other Pacific Islander; and White or to select “I do not wish to disclose.” The Board uses this information to comply with federal equal employment opportunity (EEO) recordkeeping and reporting requirements and other legal requirements, as well as an input to its self-analysis of hiring practices. Information collected on the FR 28s has no bearing on the determination of an applicant's job-related qualifications and completion of the self-identification form is voluntary.

The FR 28i survey comprises three sections in which research assistant (RA) candidates are (i) asked to rate their level of interest in categories of economics and related research areas; (ii) provided the option to expand upon certain qualifying characteristics indicated as important to the Board; and (iii) asked to rate their experience with various software packages and statistical programming languages. The FR 28i helps to streamline the RA recruitment process.

The FR 28c conflicts of interest form comprises four sections and collects information from external applicants after they have been selected for an interview at the Board regarding certain financial interests held by the applicant, their spouse, and their minor child(ren); immediate family members who are involved in related businesses (e.g., whether a spouse, parent, child, or sibling is an employee, officer, director or trustee of any bank); compensated outside employment and uncompensated positions that the applicant participates in (aside from positions with religious, social, fraternal, or political entities); and other situations, arrangements, or investments the applicant believes could pose a conflict of interest based on the duties of the position for which they are applying. The purpose of the FR 28c form is to determine whether a conflict of interest exists that would impact the applicant's ability to fulfill the responsibilities associated with the position for which they have applied.

Proposed revisions: There are no proposed revisions to the questions asked or the information collected on the FR 28i survey. However, as part of this OMB authorization, the Board is proposing to add the FR 28c conflicts of interest form to this information collection, as it was previously collected pursuant to a separate OMB authorization, because the FR 28c form is associated with the application process. In addition, the Board proposes to revise the FR 28 application form to remove the three conflicts of interest questions. Given that detailed information on potential conflicts would no longer be collected on the FR 28 application form, the Board proposes amending the FR 28c form to delete the instruction that applicants provide additional information on conflicts of interest “not previously described on your employment application (FR 28).” The Board is also proposing to revise the hardcopy PDF version of the FR 28s voluntary form so that, regardless of the ethnicity identified by the applicant, the applicant would also be asked to voluntarily identify their race. This revision comports with the standards set out by OMB and aligns with both the similar form approved by OMB (the Standard Form 181) and the electronic version of the FR 28s form in the Taleo application submission portal. In addition, the legal authorization cited on the face of the FR 28s form (both the hardcopy PDF version and the electronic version in the Taleo portal) would be updated to reflect that the collection of information is authorized pursuant to sections 10 and 11(l) of the Federal Reserve Act, 12 U.S.C. 244 and 238(l).

Legal authorization and confidentiality: The FR 28 form, the FR 28i survey, and the FR 28s form are authorized by Sections 10 and 11(l) of the Federal Reserve Act, 12 U.S.C. 244 and 248 (1), which provide the Board broad authority over employment of staff. The FR 28c form is also authorized by Section 10 of the Federal Reserve Act, 12 U.S.C. 244, which provides that the Board's determination with respect to the “employment, compensation, leave, and expenses [of its members and employees] shall be governed solely by the provisions of this chapter and rules and regulations of the Board not inconsistent therewith.” In addition, under regulations promulgated by the Office of Government Ethics (“OGE”) pursuant to 5 U.S.C. 7301, each executive agency's designated ethics officer is required to provide “advice and counseling to prospective . . . employees regarding government ethics laws and regulations” and to “maintain records of agency ethics program activities” (5 CFR 2638.104(c)(2) and (4)).

The obligation to respond to the FR 28 form, the FR 28c form, and to the questions in Sections I and III of the FR 28i survey is required to obtain the benefit of Board employment. The obligation to respond to the questions in Section II of the FR 28i survey and the obligation to disclose gender, race, and ethnicity on the FR 28s form is voluntary.

Certain information provided on the FR 28 and the FR 28i forms may be kept confidential under exemption (b)(6) of the Freedom of Information Act (FOIA), which protects information in “personnel and medical files and similar files the disclosure of which would constitute a clearly unwarranted invasion of personal privacy” (5 U.S.C. 552(b)(6)). For example, the release of information such as an applicant's home address and phone number, as well as personal information regarding the applicant's references, would likely constitute a clearly unwarranted invasion of personal privacy and, accordingly, would be kept confidential. However, the release of information such as the educational and professional qualifications of successful applicants would not likely constitute a clearly unwarranted invasion of personal privacy and, therefore, would not be treated as confidential under the FOIA.

Generally, information provided on the FR 28c form may be kept confidential pursuant to exemption 6 of the FOIA. In addition, financial information collected on the form (such as confidential details about the shares an applicant, their spouse, or their minor child owns in a bank) may be withheld under exemption 4 of the FOIA, which protects “financial information obtained from a person [that is] privileged and confidential” (5 U.S.C. 552(b)(4)).

The information collected on the FR 28, the FR 28c, the FR 28i, and the FR 28s forms will be maintained in a “system of records” within the meaning of the Privacy Act, 5 U.S.C. 552a(a)(5), and a Privacy Act statement will accompany each of the four forms that respectively comprise this information collection. The Board may disclose the information collected on these forms, including confidential information withheld from the public under a FOIA exemption, to third parties in accordance with the Privacy Act's “routine use” disclosure provisions, 5 U.S.C. 552a(a)(7) and (b)(3), which permit the disclosure of a record for a purpose that is compatible with the purpose for which the record was collected. The routine uses that would permit the disclosure of the information collected on each form are listed in the specific system of records notices (SORNs) that apply to each form. For the FR 28, the FR 28c, the FR 28i, and the FR 28s, the information collected will be stored in the SORN entitled “BGFRS-1, FRB-Recruiting and Placement Records,” located here: https://www.federalreserve.gov/files/BGFRS-1-recruiting-and-placement-records.pdf. The information collected on the FR 28c will also be stored in the SORN titled “BGFRS-41, FRB-Ethics Program Records,” located here: https://www.federalreserve.gov/files/BGFRS-41-FRB-Ethics-Program-Records.pdf. If the applicant is hired, the information provided on the FR 28s may also be stored in the SORN titled “BGFRS-24: FRB—EEO General Files,” located here: https://www.federalreserve.gov/files/BGFRS-24-eeo-general-files.pdf.

Specifically, the BGFRS-1 and the BGFRS-41 SORNs provide that the information may be disclosed outside the Board in accordance with general routine uses A, B, C, D, E, F, G, H, I, and J (see “General Routine Uses of Board Systems of Records available at https://www.federalreserve.gov/files/SORN-page-general-routine-uses-of-board-systems-of-records.pdf). The BGFRS-24 SORN provides that the information may be disclosed outside the Board in accordance with general routine uses A, B, C, D, E, F, G, I, and J (see id.). The BGFRS-1 SORN also provides that all or part of the record may be disclosed outside of the Board in order to disclose information to any source from which additional information is requested (to the extent necessary to identify the individual, inform the source of the purpose(s) of the request, and identify the type of information requested), when necessary to obtain information relevant to a Board decision to hire or retain an employee, issue a security clearance, conduct a security or suitability investigation of an individual, classify jobs, let a contract, or issue a license, grant or other benefit.

Board of Governors of the Federal Reserve System, November 18, 2020.
Michele Taylor Fennell,
Deputy Associate Secretary of the Board.

[FR Doc. 2020-25885 Filed 11-23-20; 8:45 am]

BILLING CODE 6210-01-P